DEPARTMENT OF HEALTH AND HUMAN SERVICES

Health Resources and Services Administration

Solicitation of Nominations for Membership To Serve on the Advisory Committee on Heritable Disorders in Newborns and Children

AGENCY: Health Resources and Services Administration (HRSA), Department of Health and Human Services (HHS).

ACTION: Request for nominations.

SUMMARY: HRSA is seeking nominations of qualified candidates for consideration for appointment as members of the Advisory Committee on Heritable Disorders in Newborns and Children (ACHDNC or Committee). ACHDNC provides advice, recommendations, and technical information about aspects of heritable disorders and newborn and childhood screening to the Secretary of HHS (Secretary). HRSA is seeking nominations of qualified candidates for appointment to two positions on the Committee beginning in 2023, each serving a term of up-to 4 years.

DATES: Written nominations for membership on the Committee must be received on or before April 11, 2022.

ADDRESSES: Nomination packages must be submitted electronically as email attachments to Soohyun Kim, MPH, CPH, Acting Designated Federal Officer (DFO) at ACHDNC@hrsa.gov.

FOR FURTHER INFORMATION CONTACT: Acting DFO Soohyun Kim, MPH, CPH; Maternal and Child Health Bureau, HRSA, 5600 Fishers Lane, Room 18-N-38A, Rockville, MD 20857; 301-594-4202; or ACHDNC@hrsa.gov. A copy of the Committee charter and list of the current membership is available on the Committee's website at https://www.hrsa.gov/advisory-committees/heritable-disorders/about/index.html.

SUPPLEMENTARY INFORMATION: ACHDNC was established in 2003 to provide advice and recommendations to the Secretary on the development of newborn screening activities, technologies, policies, guidelines, and programs for effectively reducing morbidity and mortality in newborns and children having, or at risk for, heritable disorders. ACHDNC reviews and reports regularly on newborn and childhood screening practices for heritable disorders, recommends improvements in the national newborn and childhood heritable screening programs, recommends conditions for inclusion in the Recommended Uniform Screening Panel (RUSP), and fulfills requirements stated in the authorizing legislation. ACHDNC's recommendations regarding inclusion of additional conditions/inherited disorders for screening that, when adopted by the Secretary, are included in the RUSP, and constitute part of the evidence-informed comprehensive preventive health services guidelines supported by HRSA pursuant to section 2713 of the Public Health Service Act (42 U.S.C. 300gg-13). Under this provision, non-grandfathered group health plans and group and individual health insurance issuers are required to provide insurance coverage without cost-sharing (a co-payment, co-insurance, or deductible) for preventive services for plan years (i.e., in the individual market, policy years) beginning on or after the date that is 1 year from the Secretary's adoption of the condition.

ACHDNC also provides advice and recommendations to the Secretary concerning grants, projects and technical information to develop policies and priorities for grants, including those that will enhance the ability of the state and local health agencies to provide for newborn and child screening, counseling, and health care services for newborns and children having or at risk for heritable disorders.

ACHDNC meets four times each calendar year, or at the discretion of the Acting DFO in consultation with the Chair.

Nominations: HRSA is requesting nominations for voting members to serve as Special Government Employees (SGEs) on the ACHDNC to fill two positions starting in 2023. The Secretary appoints ACHDNC members with the expertise needed to fulfill the duties of the Committee. The membership requirements are set forth in Title XI § 1111(g), 42 U.S.C. 300b-10(g). Nominees sought are medical, technical, or scientific professionals with special expertise in the field of heritable disorders or in providing screening, counseling, testing, or specialty services for newborns and children with, or at risk for having, heritable disorders; individuals who have expertise in ethics (e.g., bioethics) and infectious diseases and who have worked and published material in the area of newborn screening; members of the public having demonstrated expertise about or concern with heritable disorders; and/or representatives from such federal agencies, public health constituencies, and medical professional societies with such expertise. Interested applicants may self-nominate or be nominated by another individual or organization.

Individuals selected for appointment to the Committee will be invited to serve for a term of up-to 4 years. Members appointed as SGEs receive a stipend and reimbursement for per diem and travel expenses incurred for attending ACHDNC meetings and/or conducting other business on behalf of ACHDNC, as authorized by 5 U.S.C. 5703 for persons employed intermittently in government service.

The following information must be included in the package of materials submitted for each individual nominated for consideration: (1) A statement that includes the name and affiliation of the nominee and a clear statement regarding the basis for the nomination, including the area(s) of demonstrated expertise or concern that may support eligibility of a nominee for service on the Committee, as described above; (2) confirmation the nominee is willing to serve as a member of the Committee; (3) the nominee's contact information (please include home address, work address, daytime telephone number, and an email address); and (4) a current copy of the nominee's curriculum vitae. Nomination packages may be submitted directly by the individual being nominated or by the person/organization recommending the candidate.

HHS endeavors to ensure that the membership of ACHDNC is fairly balanced in terms of points of view represented and that individuals from a broad representation of geographic areas, gender, and ethnic and minority groups, as well as individuals with disabilities, are considered for membership. Appointments shall be made without discrimination on the basis of age, ethnicity, gender, sexual orientation, or cultural, religious, or socioeconomic status.

Individuals selected for further consideration for appointment will be required to provide detailed information regarding their financial holdings, consultancies, and research grants or contracts. Disclosure of this information is required in order for HRSA ethics officials to determine whether there is a potential conflict of interest between the SGE's public duties as a member of ACHDNC and their private interests, including an appearance of a loss of impartiality as defined by federal laws and regulations, and to identify any required remedial action needed to address the potential conflict.

Authority: Section 1111(g) of the Public Health Service Act, 42 U.S.C 300b-10(g), Section 222 of the Public Health Service Act, 42 U.S.C. 217a, and the Federal Advisory Committee Act, 5 U.S.C. App.

Maria G. Button,
Director, Executive Secretariat.

[FR Doc. 2022-06367 Filed 3-25-22; 8:45 am]

BILLING CODE 4165-15-P